DEPARTMENT OF HEALTH AND HUMAN SERVICES

National Institutes of Health

Consensus Development Conference on Celiac Disease; Notice

Notice is hereby given of the National Institutes of Health (NIH) Consensus Development Conference on “Celiac Disease” to be held June 28-30, 2004, in the NIH Natcher Conference Center, 45 Center Drive, Bethesda, Maryland 20892. The conference will begin at 8:30 a.m. on June 28 and 29, and at 9 a.m. on June 30, and will be open to the public.

Celiac disease is a disorder primarily affecting the gastrointestinal tract that is characterized by chronic inflammation of the mucosa, which leads to atrophy of intestinal villi, malabsorption, and protean clinical manifestations which may begin either in childhood or adult life. Symptoms can include abdominal cramping, bloating, and distention, and untreated celiac disease may lead to vitamin and mineral deficiencies, osteoporosis and other problems.

At the present time, celiac disease is widely considered to be a rare disease in the United States. However, recent studies, primarily in Europe but also in the United States, suggest that its prevalence is much higher than previous estimates, raising the concern that the disease is widely under-recognized. Recent progress in identification of autoantigens in celiac disease have led to the development of new serological diagnostic tests, but the appropriate use of testing strategies has not been well defined. Some patients with celiac disease may be at risk for non-Hodgkin's lymphoma, a rare cancer affecting the gastrointestinal tract. It is not yet clear, however, what the impact of this observation should be on diagnostic and treatment strategies.

This tow-and-a-half-day conference will examine the current state of knowledge regarding celiac disease and identify directions for future research.

During the first day-and-a-half of the conference, experts will present the latest research findings on celiac disease to an independent panel. After weighing all of the scientific evidence, the panel will draft a statement, addressing the following key questions:

—How is celiac disease diagnosed?

—How prevalent is celiac disease?

—What are the manifestations and long-term consequences of celiac disease?

—Who should be tested for celiac disease?

—What is the management of celiac disease?

—What are the recommendations for future research on celiac disease and related conditions?

On the final day of the conference, the panel chairperson will read the draft statement to the conference audience and invite comments and questions. A press conference will follow, to allow the panel and chairperson to respond to questions from the media.

The primary sponsors of this meeting are the National Institute of Diabetes and Digestive and Kidney Diseases and the NIH Office of Medical Applications of Research.

Advance information about the conference and conference registration materials may be obtained from American Institutes for Research of Silver Spring, Maryland, by calling 888-644-2667, or by sending e-mailing to celiac@air.org. American Institutes for Research's mailing address is 10720 Columbia Pike, Silver Spring, MD, 20901. Registration information is also available on the NIH consensus Development Program Web site at http://consensus.nih.gov.

Please Note: The NIH has recently instituted new security measures to ensure the safety of NIH employees and property. All visitors must be prepared to show a photo ID upon request. Visitors may be required to pass through a metal detector and have bags, backpacks, or purses inspected or x-rayed as they enter NIH buildings. For more information about the new security measures at NIH, please visit the Web site at http://www.nih.gov/about/visitorssecurity.htm.

Dated: March 2, 2004.
Raynard S. Kington,
Deputy Director, National Institutes of Health.

[FR Doc. 04-5221 Filed 3-8-04; 8:45 am]

BILLING CODE 4140-01-M